DEPARTMENT OF THE INTERIOR

National Park Service

[NPS-WASO-NAGPRA-NPS0031684; PPWOCRADN0-PCU00RP14.R50000]

Notice of Inventory Completion: California State University, Sacramento, Sacramento, CA

AGENCY: National Park Service, Interior.

ACTION: Notice.

SUMMARY: The California State University, Sacramento has completed an inventory of human remains and an associated funerary object in consultation with the appropriate Indian Tribes or Native Hawaiian organizations, and has determined that there is a cultural affiliation between the human remains and associated funerary object and present-day Indian Tribes or Native Hawaiian organizations. Lineal descendants or representatives of any Indian Tribe or Native Hawaiian organization not identified in this notice that wish to request transfer of control of these human remains and this associated funerary object should submit a written request to the California State University, Sacramento. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and this associated funerary object should submit a written request with information in support of the request to the California State University, Sacramento at the address in this notice by May 24, 2021.

ADDRESSES: Dr. Dianne Hyson, Dean of the College of Social Sciences and Interdisciplinary Studies, California State University, Sacramento, 6000 J Street, Sacramento, CA 95819-6109, telephone (916) 278-6504, email dhyson@csus.edu.

SUPPLEMENTARY INFORMATION: Notice is here given in accordance with the Native American Graves Protection and Repatriation Act (NAGPRA), 25 U.S.C. 3003, of the completion of an inventory of human remains and an associated funerary object under the control of the California State University, Sacramento, CA. The human remains and associated funerary object were removed from Sudden #1 site, Santa Barbara, CA.

This notice is published as part of the National Park Service's administrative responsibilities under NAGPRA, 25 U.S.C. 3003(d)(3). The determinations in this notice are the sole responsibility of the museum, institution, or Federal agency that has control of the Native American human remains and the associated funerary object. The National Park Service is not responsible for the determinations in this notice.

Consultation

A detailed assessment of the human remains was made by the California State University, Sacramento professional staff. The Santa Ynez Band of Chumash Mission Indians of the Santa Ynez Reservation, California as well as three non-federally recognized Indian groups—the Barbareno Chumash Council, the Coastal Band of Chumash Indians, and the San Luis Obispo County Chumash—were contacted by California State University, Sacramento several times, but ultimately, no in-person consultation was requested. Hereafter, all the above entities are referred to as “The Tribe and Groups.”

History and Description of the Remains

On March 8, 1936, human remains representing, at minimum, one individual were removed from Sudden #1 site in Santa Barbara, CA, by Anthony Zallio, a private collector associated with Sacramento City College. While the exact location of this site is unknown, Zallio was with a party of professional and amateur archeologists visiting sites in the vicinity of Casmalia and Happy Canyon, located approximately four to ten miles east and northeast of Santa Ynez. In 1951, Zallio's estate posthumously donated the collection to the Department of Anthropology at Sacramento State College, California (now California State University, Sacramento). The individual is represented by a cranium and belongs to a male between 30-40 years old. No known individual was identified. The one associated funerary object is a small Olivella shell bead.

No information about the Sudden #1 site was located. The lack of temporally diagnostic associated funerary objects makes it impossible to date the human remains. The Casmalia and Happy Canyon areas are within the aboriginal territory of the Ynezeño Chumash. Recent archeological research suggests that the Chumash have been in the region since at least the early Holocene.

Determinations Made by California State University, Sacramento

Officials of the California State University, Sacramento have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Santa Ynez Band of Chumash Mission Indians of the Santa Ynez Reservation, California.

Additional Requestors and Disposition

Lineal descendants or representatives of any Indian Tribe or Native Hawaiian organization not identified in this notice that wish to request transfer of control of these human remains and this associated funerary object should submit a written request with information in support of the request to Dr. Dianne Hyson, Dean of the College of Social Sciences and Interdisciplinary Studies, California State University, Sacramento, 6000 J Street, Sacramento, CA 95819-6109, telephone (916) 278-6504, email dhyson@csus.edu, by May 24, 2021. After that date, if no additional requestors have come forward, transfer of control of the human remains and associated funerary object to the Santa Ynez Band of Chumash Mission Indians of the Santa Ynez Reservation, California may proceed. If joined to a request from the Santa Ynez Band of Chumash Mission Indians of the Santa Ynez Reservation, California, any of the following non-federally recognized Indian groups may receive transfer of control of the human remains and associated funerary object: The Barbareno Chumash Council, the Coastal Band of Chumash Indians, and the San Luis Obispo County Chumash.

The California State University, Sacramento is responsible for notifying The Tribe and Groups that this notice has been published.

Dated: April 15, 2021.
Melanie O'Brien,
Manager, National NAGPRA Program.

[FR Doc. 2021-08397 Filed 4-21-21; 8:45 am]

BILLING CODE 4312-52-P